FEDERAL TRADE COMMISSION

Agency Information Collection Activities: Proposed Collection; Comment Request; Generic Clearance for the Collection of Qualitative Feedback on Agency Service Delivery

AGENCY: Federal Trade Commission.

ACTION: 30-day notice of submission of information collection approval from the Office of Management and Budget (“OMB”) and request for comments.

SUMMARY: As part of a Federal Government-wide effort to streamline the process to seek feedback from the public on service delivery, the Federal Trade Commission (“FTC” or “Commission”) is submitting a Generic Information Collection Request (Generic ICR): “Generic Clearance for the Collection of Qualitative Feedback on Agency Service Delivery” to OMB for approval under the Paperwork Reduction Act.

DATES: Comments must be submitted by June 15, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Bridget Small, Federal Trade Commission, 600 Pennsylvania Avenue NW, CC-10402, Washington, DC 20580, (202) 326-3266.

SUPPLEMENTARY INFORMATION:

Title: Generic Clearance for the Collection of Qualitative Feedback on Agency Service Delivery.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

Type of Review: Extension of a currently approved collection.

Affected Public: Individuals and Households, Businesses and Organizations, State, Local or Tribal Government.

Average Expected Annual Number of Activities: 35.

Estimated Number of Annual Respondents: 5,764.¹

¹ Projected activities: (1) Eleven customer satisfaction surveys per year of 500 respondents each (surveys to get feedback about major campaigns, publications, websites, branding and other consumer and business education products to test their appeal and effectiveness), 0.25 hours (i.e. 15 minutes) per response; (2) Twelve focus groups per year, 10 respondents each (to test education products and websites), 2 hours per response; and (3) Twelve usability sessions per year, 12 respondents per website (to test the usability of FTC websites by inviting people to complete common tasks on those sites), 1 hour per response.

Frequency of Response: Once per request.

Annual Responses: 5,764.

Average Minutes Per Response: 18 (rounded to nearest whole minute).

Estimated Total Annual Burden Hours: 1,759.

An agency may not conduct or sponsor, and a person is not required to respond to, a collection of information unless it displays a currently valid OMB control number. The control number for the existing clearance (expiring May 31, 2020) is 3084-0159. The FTC seeks renewed three-year clearance under this control number for the prospective collection of information and the associated burden estimates.

Request for Comment:

On December 26, 2019, the Commission sought comment on the renewal of this generic clearance. 84 FR 70972. One relevant comment was received from an interested person. The commenter stated that he believed the collection and analysis of these qualitative statistics will be useful in improving the delivery of the many services of the FTC.

Pursuant to the OMB regulations, 5 CFR part 1320, that implement the PRA, 44 U.S.C. 3501 et seq., the FTC is providing this second opportunity for public comment while seeking OMB approval to renew the pre-existing clearance for those information collection requirements. An agency may not conduct or sponsor, and a person is not required to respond to a collection of information unless it displays a valid OMB control number.

Your comment—including your name and your state—will be placed on the public record of this proceeding. Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential” as provided in Section 6(f) of the FTC Act 15 U.S.C. 46(f), and FTC Rule 4.10(a)(2), 16CFR 4.10(a)(2). In particular, do not include competitively sensitive information such as costs, sales statistics, inventories, formulas, patterns devices, manufacturing processes, or customer names.

Josephine Liu,
Assistant General Counsel for Legal Counsel.

[FR Doc. 2020-10307 Filed 5-13-20; 8:45 am]

BILLING CODE 6750-01-P